FEDERAL COMMUNICATIONS COMMISSION

47 CFR Parts 25 and 101

[IB Docket No. 00-203; FCC-02-17]

Partial Band Licensing and Loading Standards for Earth Stations in the FSS That Share Spectrum With Terrestrial Services, Blanket Licensing for Small Aperture Terminals in the C-Band, Routine Licensing of 3.7 Meter Transmit and Receive Stations at C-Band, and Deployment of Geostationary-Orbit FSS Earth Stations in the Shared Portion of the Ka-Band

AGENCY: Federal Communications Commission.

ACTION: Final rule; termination of consideration.

SUMMARY: This document terminates the consideration of issues related to the FWCC request for declaratory ruling and petition for rulemaking in the proceeding in IB Docket No. 00-203. We conclude that the record in this proceeding provides an insufficient basis to impose the proposed conditions upon Fixed-Satellite Service (FSS) earth stations in bands that are shared on a co-primary basis with Fixed Service (FS) operations. Additionally, we defer to a future Order the petition for reconsideration and the request contained in the ex parte letter filed by Hughes concerning deployment of geostationary orbit fixed-satellite service earth stations in the shared portion of the Ka-band.

FOR FURTHER INFORMATION CONTACT: Edward R. Jacobs, Planning & Negotiations Division, International Bureau. (202) 418-0624 or via electronic mail: ejacobs@fcc.gov.

SUPPLEMENTARY INFORMATION: This is a summary of the Commission's Second Report and Order in IB Docket No. 00-203, adopted January 23, 2002 and released January 30, 2002. The full text of this Commission decision is available for inspection and copying during normal business hours in the FCC Reference Center, (Room CY-A257), 445 12th Street, SW., Washington, DC and may also be purchased from the Commission copy contractor, International Transcription Services (ITS), Inc., (202) 857-3800, 1231 20th Street, NW., Washington, DC 20036.

Summary of the Second Report and Order

1. In this Order the Commission terminates its consideration of the issues raised by the Fixed Wireless Communications Coalition (FWCC). We conclude that the record in this proceeding provides an insufficient basis to impose the FWCC proposed conditions upon Fixed-Satellite Service (FSS) earth stations in bands that are shared on a co-primary basis with Fixed Service (FS) operations.

2. Specifically, the Commission finds that the record lacks necessary information on how to achieve more equitable sharing of the spectrum. As previously noted, the FWCC/Onsat/Hughes NPRM, 65 FR 7051, November 24, 2000, rejected FWCC's specific proposals to achieve more equitable sharing. Instead, the FWCC/Onsat/Hughes NPRM proposed in essence to achieve greater equity in the sharing of spectrum by amending § 25.203 of the Commission's rules to indicate that, under certain circumstances an FSS earth station licensee must demonstrate that it is using, has recently used, or has plans to use the requested spectrum in the near future. Both the FS and the FSS commenters, however, rejected the proposed rule. The FWCC rejected it because it believed that such procedures may result in disputes over an earth station's “demonstrated use” of frequencies at the worst possible time, that is, when an FS applicant is attempting to finalize coordination and begin operations. The FWCC also rejected the proposal in the FWCC/Onsat/Hughes NPRM because it would not allow an earth station to reserve specific frequencies to use in the event of satellite or transponder failure. The FSS commenters rejected the proposed rule for other reasons, including that there was no data to back up the claims of problems; that the proposed rules would impose burdensome administrative requirements while decreasing flexibility; and that the proposed rules constrain the provision of emergency services, and provide no relief in the event of satellite failure. The comments of the FWCC include additional proposals for how to achieve more equitable sharing of the spectrum. The Commission agrees, however, with the reply comments of the FSS operators, and concludes that these counter-proposals are unsuitable for substantially the same reasons articulated in the FWCC/Onsat/Hughes NPRM for denying the FWCC Petition. That is, FWCC's proposals fail to fully and properly take into account the fact that the FSS and FS services have significantly different requirements for access to the electromagnetic spectrum in order to meet their business needs, and these needs must be recognized and accommodated in the context of the entire interference environment, in any rules that we adopt to address the perceived “inequities.” Thus, the Commission finds that this record presents no effective solution that addresses the concerns raised in this proceeding.

3. The Commission is, nonetheless, open to new proposals or approaches that could effectively address concerns that have been raised regarding the equitable sharing of the spectrum. We, therefore, do not foreclose the possibility that changes to our rules could improve the sharing environment and licensing processes for both the FS and FSS services.

4. Finally, the Commission defers to a future Order the petition for reconsideration and the request contained in the ex parte letter filed by Hughes concerning deployment of geostationary orbit fixed-satellite service earth stations in the shared portion of the Ka-band.

Ordering Clauses

Pursuant to sections 4(i), 7(a), 303(c), 303(f), 303(g), and 303(r) of the Communications Act of 1934, as amended, 47 U.S.C. 154(i), 157(a), 303(c), 303(f), 303(g), and 303(r), this Second Report and Order is hereby ADOPTED. The Commission's Consumer Information Bureau, Reference Information Center, SHALL SEND a copy of this Second Report and Order to the Chief, Counsel for Advocacy of the Small Business Administration.

Federal Communications Commission.
William F. Caton,
Acting Secretary.

[FR Doc. 02-3722 Filed 2-15-02; 8:45 am]

BILLING CODE 6712-01-P